DEPARTMENT OF JUSTICE

Notice of Lodging of Proposed Consent Decree Under the Clean Water Act

On January 19, 2017, the Department of Justice lodged a proposed consent decree with the United States District Court for the Northern District of Oklahoma in the lawsuit entitled United States v. Magellan Pipeline Company, L.P., Civil Action No. 17-cv-00031-JED-TLW.

The United States filed this lawsuit under the Clean Water Act, 33 U.S.C. 1251 et seq. The complaint seeks civil penalties and injunctive relief for violations related to four unauthorized discharges of petroleum products from Magellan's liquid petroleum pipeline system. These spills occurred in 2011 and 2015 in Kansas, Nebraska, and Texas. The consent decree requires Magellan to pay a civil penalty of $2 million. The consent decree also requires Magellan to complete injunctive relief across its 11,000-mile pipeline system, including: (1) Completing an ongoing spill cleanup effort in Nebraska, (2) instituting an enhanced annual training program for its third-party damage prevention staff, (3) updating and enhancing company information resources concerning selective seam corrosion, (4) updating its integrity management plan, and (5) creating a publicly accessible Web page that will report information about certain types of pipeline releases and Magellan's responses to them.

The publication of this notice opens a period for public comment on the consent decree. Comments should be addressed to the Assistant Attorney General, Environment and Natural Resources Division, and should refer to United States v. Magellan Pipeline Company, L.P., D.J. Ref. No. 90-5-1-1-10628. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department Web site: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $11.25 (25 cents per page reproduction cost) payable to the United States Treasury.

Thomas P. Carroll,
Assistant Section Chief, Environmental Enforcement Section, Environment and Natural Resources Division.

[FR Doc. 2017-01805 Filed 1-25-17; 8:45 am]

BILLING CODE 4410-15-P